NATIONAL SCIENCE FOUNDATION

Special Emphasis Panel in Bioengineering and Environmental Systems; Notice of Meeting

In accordance with the Federal Advisory Committee Act (Pub. L. 92-463, as amended), the National Science Foundation announces the following meeting.

Name: Special Emphasis Panel in Bioengineering and Environmental Systems (1189).

Date/Time: May 15, 2001, 8:30 am-5 pm.

Place: National Science Foundation, 4201 Wilson Boulevard, Room 360, Arlington, VA.

Type of Meeting: Closed.

Contact Person: Fred Thompson, Program Director, Environmental Technology Program, Division of Bioengineering and Environmental Systems, National Science Foundation, 4201 Wilson Boulevard, Arlington, VA 22230, Telephone: (703) 292-8320.

Purpose of Meeting: To provide advice and recommendations concerning proposals submitted to NSF for financial support.

Agenda: To review and evaluate unsolicited proposals and proposals received under the Information Technology Research (ITR) Program Solicitation (Announcement Number NSF 00-126), as part of the selection process for awards.

Reason for Closing: The proposals being reviewed include information of a proprietary or confidential nature, including technical information; financial data, such as salaries; and person information concerning individuals associated with the proposals. These matters are exempt under 5 U.S.C. 552b(c), (4) and (6) or the Government in the Sunshine Act.

Dated: April 25, 2001.
Susanne Bolton,
Committee Management Officer.

[FR Doc. 01-10676 Filed 4-27-01; 8:45 am]

BILLING CODE 7555-01-M